DEPARTMENT OF THE INTERIOR

Fish and Wildlife Service

Notice of Intent To Prepare an Environmental Impact Statement/Environmental Impact Report on the Restoration and Management Plan for Bair Island, Don Edwards San Francisco Bay National Wildlife Refuge, San Mateo County, California, and Announcement of Public Scoping Meeting

AGENCY: Fish and Wildlife Service, Interior.

ACTION: Notice of intent to prepare an environmental impact statement/environmental impact report and notice of public meeting.

SUMMARY: This notice advises the public that the U.S. Fish and Wildlife Service (Service) intends to gather information necessary to prepare an Environmental Impact Statement/Environmental Impact Report (EIS/EIR) for the development of a Restoration and Management Plan (RMP) for Bair Island located in San Mateo County, California. Interested persons are encouraged to submit written comments and/or attend a public scoping meeting to identify and discuss issues and alternatives that should be addressed in the RMP and in the EIS/EIR. The Service is furnishing this notice in compliance with the National Environmental Policy Act (NEPA) regulations (40 CFR 1501.7) for the following purposes: (1) To advise other agencies and the public of our intentions; (2) to obtain suggestions and information on the scope of issues to be addressed in the EIS/EIR; and (3) to announce a public scoping meeting. Comments and participation in this scoping process are solicited. We estimate the Draft Environmental Impact Statement will be made available to the public by February 2001.

DATES: A public scoping meeting will be held on April 27, 2000, from 7:00 p.m. to 9:00 p.m., see addresses for location. Written comments related to the scope and content of the Restoration and Management Plan and EIS/EIR should be received by the Service at the Newark address below by April 26, 2000.

ADDRESSES: The public meeting will be held at the Community Activities Building, 1400 Roosevelt Avenue, Redwood City, California. Oral and written comments will be taken at the meeting. Written comments also may be mailed to Ms. Margaret T. Kolar, Refuge Complex Manager, San Francisco Bay National Wildlife Refuge Complex, P.O. Box 524, Newark, California 94560; or sent by facsimile to (510) 792-5828.

FOR FURTHER INFORMATION CONTACT: Clyde Morris, Refuge Manager, Don Edwards San Francisco Bay National Wildlife Refuge, Newark, California, telephone (510) 792-0222.

SUPPLEMENTARY INFORMATION:

Background Information

The U.S. Fish and Wildlife Service (Service) will manage all State and Federal land on Bair Island as a part of the Don Edwards San Francisco Bay National Wildlife Refuge (Refuge). Lands owned by the California Department of Fish and Game on Bair Island will be managed as a part of the Refuge in compliance with a Memorandum of Understanding.

The Service proposes to restore Bair Island to tidal wetlands. The purpose of the project is to restore saltwater marsh habitat for endangered species and other native wildlife; and to enhance the public's appreciation and awareness of the unique resources of Bair Island.

The environmental review of this project will be conducted in accordance with the requirements of the National Environmental Policy Act of 1969, as amended (42 U.S.C. 4371 et seq.), NEPA Regulations (40 CFR 1500-1508), other appropriate Federal regulations, and Service procedures for compliance with those regulations.

Project Objectives

The objectives of the project follow.

1. Restore and enhance habitat for the endangered California clapper rail and salt marsh harvest mouse.

2. Create and enhance habitat for other endangered and threatened species, and other wetland dependent species if compatible with restoration for the clapper rail and harvest mouse.

3. Minimize disturbance to any sensitive species (clapper rail, harbor seals, etc.).

4. Provide for control of undesirable species including invasive plants, undesirable predators, and mosquitos.

5. Enhance the public's awareness of the unique resources at Bair Island by providing opportunities for wildlife-oriented recreation and nature study.

Questions and Issues

Questions and issues identified to date include the following.

1. What recreational uses are compatible with restoration?

2. How will historic and cultural resources be protected?

3. What are the impacts of restoration activities on sensitive wildlife resources?

4. How will invasive non-native and undesirable species be controlled?

5. Would this project improve flood conditions along Redwood, Pulgas, and Cordilleras creeks, or affect the stability of Highway 101 and flood control levees along Steinberger Slough and Redwood Creeks?

6. How will San Carlos Airport property on Inner Bair Island be protected from tidal inundation?

7. What impacts will there be to adjacent marinas and the Port of Redwood City from increased tidal currents?

8. What are the risks to low flying aircraft from increased waterbird use?

9. How will this project impact the South Bayside System Authority's pipeline and Pacific Gas and Electric's towers?

Public Comments

Comments already received are on record and need not be resubmitted. All comments received from individuals on the EIS/EIR become part of the official public record. Requests for such comments will be handled in accordance with the Freedom of Information Act, the Council on Environmental Quality's NEPA regulations (40 CFR 1506.6(f)), and other Service and Departmental policy and procedures. When requested, the Service generally will provide comment letters with the names and addresses of the individuals who wrote the comments. Telephone numbers of commenting individuals, however, will not be provided in response to such requests to the extent permissible by law. Additionally, public comment letters are not required to contain the commentator's name, address, or other identifying information. Such comments may be submitted anonymously to the Service.

Dated: March 17, 2000.
Elizabeth H. Stevens,
Acting Manager, California/Nevada Operations, Sacramento, California.

[FR Doc. 00-7168 Filed 3-24-00; 8:45 am]

BILLING CODE 4310-55-P